SMALL BUSINESS ADMINISTRATION

[Declaration of Disaster #3320]

State of Washington (Amendment #3)

In accordance with a notice received from the Federal Emergency Management Agency, dated March 16, 2001, the above-numbered Declaration is hereby amended to establish the incident period for this disaster as beginning on February 28, 2001 and continuing through March 16, 2001.

All other information remains the same, i.e., the deadline for filing applications for physical damage is April 30, 2001 and for economic injury the deadline is November 30, 2001.

(Catalog of Federal Domestic Assistance Program Nos. 59002 and 59008.)

Dated: March 21, 2001.
Herbert L. Mitchell,
Associate Administrator for Disaster Assistance.

[FR Doc. 01-7487 Filed 3-26-01; 8:45 am]

BILLING CODE 8025-01-U